DEPARTMENT OF COMMERCE

International Trade Administration

United States Trade Finance Advisory Council

AGENCY: International Trade Administration, U.S. Department of Commerce.

ACTION: Notice of an Opportunity To Apply for Membership on the U.S. Trade Finance Advisory Council.

SUMMARY: The Secretary of Commerce (Secretary) has established the U.S. Trade Finance Advisory Council (TFAC) to solicit input regarding the challenges faced by U.S. exporters in accessing capital, innovative solutions that can address these challenges, and recommendations on strategies that can expand access to finance and educate U.S. exporters on available resources. This federal advisory committee is necessary to provide input to the Secretary on the development of strategies and programs that would help expand access to trade finance for U.S. exporters. The Department of Commerce is seeking applications for membership on the TFAC. In order to accommodate requests for extensions, we are now extending the deadline to receive applications until 5:00 p.m. EDT on Monday, August 29, 2016.

DATES: All applications for immediate consideration must be received by the Office of Finance and Insurance Industries by 5:00 p.m. Eastern Daylight Time (EDT) on Monday, August 29 2016. After that date, ITA will continue to accept applications under this notice for a period of up to two years from the deadline to fill any vacancies that may arise.

ADDRESSES: Please submit applications by email to TFAC@trade.gov, attention: Ericka Ukrow, Office of Finance and Insurance Industries, U.S. Department of Commerce Trade Finance Advisory Council Executive Secretariat, or by mail to Ericka Ukrow, Office of Finance and Insurance Industries, U.S. Department of Commerce Trade Finance Advisory Council, Room 18002, 1401 Constitution Avenue NW., Washington, DC 20230.

FOR FURTHER INFORMATION CONTACT: Office of Finance and Insurance Industries, U.S. Department of Commerce Trade Finance Advisory Council Executive Secretariat, Ericka Ukrow, Room 18002, 1401 Constitution Avenue NW., Washington, DC 20230; telephone: (202) 482-0405, email: Ericka.Ukrow@trade.gov. Please visit http://trade.gov/TFAC for additional information.

SUPPLEMENTARY INFORMATION:

I. Background and Authority

On July 25, 2016 (81 FR 48386), the Secretary of Commerce announced the establishment of the United States Trade Finance Advisory Council (the Council) in accordance with the provisions of the Federal Advisory Committee Act, as amended, 5 U.S.C. App., to advise the Secretary on matters relating to private sector trade financing for U.S. exporters. As indicated in that notice, the Department of Commerce, Office of Finance and Insurance Industries, is accepting applications for membership on the TFAC. The TFAC functions solely as an advisory committee. The TFAC shall advise the Secretary in identifying effective ways to help expand access to finance for U.S. exporters, especially small- and medium-sized enterprises (SMEs), and their foreign buyers.

The TFAC shall provide a necessary forum to facilitate the discussion between a diverse group of stakeholders such as banks, non-bank financial institutions, other trade finance related organizations, and exporters to gain a better understanding regarding current challenges facing U.S. exporters in accessing finance.

The TFAC shall draw upon the experience of its members in order to obtain ideas and suggestions for innovative solutions to these challenges.

The TFAC shall develop recommendations on programs or activities that the Department of Commerce could incorporate as part of its export promotion and trade finance education efforts.

The TFAC shall report to the Secretary on its activities and recommendations. In creating its reports, the TFAC should: (1) Evaluate current credit conditions and specific financing challenges faced by U.S. exporters, especially SMEs, and their foreign buyers, (2) examine other noteworthy issues raised by stakeholders represented by the membership, (3) identify emerging financing sources that would address these gaps, and (4) recommend specific activities by which these recommendations could be incorporated and implemented.

II. Structure, Membership, and Operation

The TFAC shall consist of no more than twenty members appointed by the Secretary. Members may be drawn from:

• U.S. companies that are exporters of goods and services;

• U.S. commercial banks that provide trade finance products, cross-border payment services, or foreign exchange solutions;

• Non-bank U.S. financial institutions that provide trade finance products, cross-border payment services, or foreign exchange solutions;

• Associations that represent: (a) U.S. exporters and SMEs; and (b) U.S. commercial banks or non-bank financial institutions or other professionals that facilitate international trade transactions;

• U.S. companies or entities whose business includes trade-finance-related activities or services;

• U.S. scholars, academic institutions, or public policy organizations with expertise in global business, trade finance, and international banking related subjects; and

• Economic development organizations and other U.S. regional, state and local governmental and non-governmental organizations whose missions or activities include the analysis, provision, or facilitation of trade finance products/services.

Membership shall include a broad range of companies and organizations in terms of products and services, company size, and geographic location of both the source and destination of trade finance. Members will be selected based on their ability to carry out the objectives of the TFAC, in accordance with applicable Department of Commerce guidelines, in a manner that ensures that the TFAC is balanced in terms of points of view and demographics. Priority may be given to candidates who have executive-level (Chief Executive Officer, Executive Chairman, President, or comparable level of responsibility) experience.

Members, with the exception of those from academia and public policy organizations, serve in a representative capacity, representing their own views and interests or those of their sponsoring entities, not as Special Government Employees. The members from academia and public policy organizations serve as experts and therefore are Special Government Employees (SGEs), pursuant to 18 U.S.C. 202, and will be required to comply with certain ethics laws and rules, including filing a Confidential Financial Disclosure form. Additionally, a member serving as an expert must not be a Federally Registered Lobbyist.

Prospective nominees should designate the capacity in which they are applying to serve and identify either their area of expertise or the U.S. industry sector they wish to represent.

Members of the TFAC will not be compensated for their services or reimbursed for their travel expenses. Appointments to the TFAC shall be made without regard to political affiliation.

Each member shall be appointed for a term of two years and will serve at the pleasure of the Secretary. The Secretary may at his/her discretion reappoint any member to an additional term or terms, provided that the member proves to work effectively on the TFAC and his/her knowledge and advice are still needed.

The TFAC chair and vice chair or vice chairs shall be selected from the members of the TFAC by the Assistant Secretary for Industry & Analysis after consulting with the members. Their term of service will not exceed the duration of the current charter term and they may be reselected for additional periods should the charter be renewed and should they remain on the TFAC.

III. Meetings

The TFAC shall, to the extent practical, meet a minimum of two times a year. Additional meetings may be called at the discretion of the Secretary or his/her designee. The meetings will take place in Washington, DC, or elsewhere in the United States, or be held via teleconference. Members are required to attend a majority of the TFAC's meetings.

IV. Application

To be considered for membership, submit the following information to the email address listed in the ADDRESSES section above. In order to accommodate requests for extensions, we are now extending the deadline to receive applications until 5:00 p.m. EDT on Monday, August 29, 2016.

Applications for immediate consideration must be received by this deadline.

For all applicants, submit:

1. Name and title of the individual requesting consideration.

2. The applicant's personal resume and short biography (less than 300 words).

3. A brief statement describing how the applicant will contribute to the work of the TFAC based on his/her unique experience and perspective (not to exceed 100 words).

4. All relevant contact information, including mailing address, fax, email, phone number, and support staff information where relevant.

5. An affirmative statement that the applicant meets all eligibility criteria, including an affirmative statement that the applicant is not required to register as a foreign agent under the Foreign Agents Registration Act of 1938, as amended.

6. For applicants to serve in a representative capacity, also submit:

a. A sponsor letter on the sponsoring entity's letterhead containing a brief statement of why the applicant should be considered for membership on the TFAC. This sponsor letter should also address the applicant's experience and leadership related to trade finance;

b. A brief description of the company, institution, trade association, or organization to be represented and its business activities and export market(s) served, if applicable;

c. Information regarding the ownership and control of the sponsoring entity, including the stock holdings as appropriate; and

d. The sponsoring entity's size (number of employees and annual sales), place of incorporation, product or service line, major markets in which the entity operates, and the entity's export or import experience.

7. For applicants to serve as experts (i.e., not in a representative capacity), also submit:

a. A statement that the applicant is not a Federally registered lobbyist and that the applicant understands that, if appointed, the applicant will not be allowed to continue to serve as a Committee member if the applicant becomes a Federally registered lobbyist.

Dated: August 15, 2016.
Paul Thanos,
Director, Office of Finance and Insurance Industries.

[FR Doc. 2016-19981 Filed 8-17-16; 4:15 pm]

BILLING CODE 3510-DR-P